FEDERAL DEPOSIT INSURANCE CORPORATION

Agency Information Collection Activities: Submission for OMB Review; Comment Request (3064-0189)

AGENCY: Federal Deposit Insurance Corporation (FDIC).

ACTION: Notice and request for comment.

SUMMARY: In accordance with the requirements of the Paperwork Reduction Act (PRA) of 1995, the FDIC may not conduct or sponsor, and the respondent is not required to respond to, an information collection unless it displays a currently valid Office of Management and Budget (OMB) control number. On November 25, 2016, (81 FR 85223), the FDIC requested comment for 60 days on a proposal to revise the information collection described below. The comment period for the November 25, 2016 notice ended on January 24, 2017 and no comments were received. The FDIC hereby gives notice that it has sent the collection of information revision to OMB for review.

DATES: Comments must be received by April 21, 2017.

ADDRESSES: You may submit written comments, which should refer to “Annual Stress Test Reporting Template and Documentation for Covered Institutions with Total Consolidated Assets of $50 Billion or More” by any of the following methods:

• Agency Web site: https://www.fdic.gov/regulations/laws/federal/. Follow the instructions for submitting comments on the FDIC's Web site.

• Federal eRulemaking Portal: http://www.FDIC.gov/regulations/laws/federal/notices.html. Follow the instructions for submitting comments.

• Email: comments@fdic.gov. Include “Annual Stress Test Reporting Template and Documentation for Covered Institutions with Total Consolidated Assets of $50 Billion or More” in the subject line of the message.

• Mail: Manny Cabeza (202-898-3767), Counsel, Attn: Comments Room MB-3007, Federal Deposit Insurance Corporation, 550 17th Street NW., Washington, DC 20429.

• Hand Delivery/Courier: Comments may be hand delivered to the guard station at the rear of the 550 17th Street Building (located on F Street) on business days between 7:00 a.m. and 5:00 p.m.

• Public Inspection: All comments received will be posted without change to http://www.fdic.gov/regulations/laws/federal/ including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW., Washington, DC 20503; by fax to (202) 395-6974; or by email to oira_submission@omb.eop.gov.

FOR FURTHER INFORMATION CONTACT: You can request additional information from Manny Cabeza, Counsel, (202) 898-3767, Legal Division, Federal Deposit Insurance Corporation, 550 17th Street NW., MB-3016, Washington, DC 20429. In addition, copies of the templates referenced in this notice can be found on the FDIC's Web site (http://www.fdic.gov/regulations/laws/federal/).

SUPPLEMENTARY INFORMATION: The FDIC is requesting comment on the following changes to the information collection:

Title: Company-Run Annual Stress Test Reporting Template and Documentation for Covered Institutions with Total Consolidated Assets of $50 Billion or More under the Dodd-Frank Wall Street Reform and Consumer Protection Act.

OMB Control Number: 3064-0189.

Description: Section 165(i)(2) of the Dodd-Frank Wall Street Reform and Consumer Protection Act ¹ (“Dodd-Frank Act”) requires certain financial companies, including state nonmember banks and state savings associations, to conduct annual stress tests ² and requires the primary financial regulatory agency ³ of those financial companies to issue regulations implementing the stress test requirements.⁴ A state nonmember bank or state savings association is a “covered bank” and therefore subject to the stress test requirements if its total consolidated assets are more than $10 billion. Under section 165(i)(2), a covered bank is required to submit to the Board of Governors of the Federal Reserve System (“Board”) and to its primary financial regulatory agency a report at such time, in such form, and containing such information as the primary financial regulatory agency shall require.⁵

¹ Public Law 111-203, 124 Stat. 1376 (July 21, 2010).

² 12 U.S.C. 5365(i)(2)(A).

³ 12 U.S.C. 5301(12).

⁴ 12 U.S.C. 5365(i)(2)(C).

⁵ 12 U.S.C. 5365(i)(2)(B).

On October 15, 2012, the FDIC published in the Federal Register a final rule implementing the section 165(i)(2) annual stress test requirement.⁶ The final rule requires covered banks to meet specific reporting requirements under section 165(i)(2). In 2012, the FDIC first implemented the reporting templates for covered banks with total consolidated assets of $50 billion or more and provided instructions for completing the reports.⁷ This information collection notice describes revisions by the FDIC to the relevant reporting templates and related instructions as well as required information. The information contained in these information collections may be given confidential treatment to the extent allowed by law (5 U.S.C. 552(b)(4)).

⁶ 77 FR 62417 (October 15, 2012).

⁷ 77 FR 52719 (August 30, 2012) and 77 FR 70435 (November 26, 2012).

Consistent with past practice, the FDIC intends to use the data collected to assess the reasonableness of the stress test results of covered banks and to provide forward-looking information to the FDIC regarding a covered institution's capital adequacy. The FDIC also may use the results of the stress tests to determine whether additional analytical techniques and exercises could be appropriate to identify, measure, and monitor risks at the covered bank. The stress test results are expected to support ongoing improvement in a covered bank's stress testing practices with respect to its internal assessments of capital adequacy and overall capital planning.

The FDIC recognizes that many covered banks with total consolidated assets of $50 billion or more are required to submit reports using the Board's Comprehensive Capital Analysis and Review (“CCAR”) reporting form, FR Y-14A. The FDIC also recognizes the Board has modified the FR Y-14A, and the FDIC will keep its reporting requirements as similar as possible with the Board's FR Y-14A in order to minimize burden on affected institutions. Therefore, the FDIC is revising its reporting requirements to remain consistent with the Board's FR Y-14A for covered banks with total consolidated assets of $50 billion or more. Because these revisions primarily involve removal of items not reported by FDIC-supervised institutions, there is no change in burden associated with the revisions.

Proposed Revisions to Reporting Templates for Institutions With $50 Billion or More in Assets

The proposed revisions to the DFAST-14A reporting templates consist of clarifying instructions, adding and removing schedules, adding, deleting, and modifying existing data items, and altering the as-of dates. These proposed changes would increase consistency between the DFAST-14A with the FR Y-14A and CALL Report. The revised reporting templates can be viewed at https://www.fdic.gov/regulations/reform/dfast/.

Summary Schedule, Standardized RWA Worksheet

The proposed revision includes multiple line items changes intended to promote consistency with the FR Y-14A and ensure the collection of accurate information.

Summary Schedule, Capital Worksheet

Covered institutions would be required to estimate their supplementary leverage ratio for the planning horizon beginning on January 1, 2018. The FDIC proposes adding two items to the Summary Schedule: Supplementary Leverage Ratio Exposure (SLR Exposure) and Supplementary Leverage Ratio (the SLR). The SLR would be a derived field.

In addition, to collect more precise information regarding deferred tax assets (DTAs), the FDIC proposes modifying one existing item on the Capital—DFAST worksheet of the Summary schedule as-of December 31, 2016. The FDIC proposes changing existing item 112 on the Capital—DFAST worksheet of the Summary schedule, “Deferred tax assets arising from temporary differences that could not be realized through net operating loss carrybacks, net of DTLs, but before related valuation allowances”, to “Deferred tax assets arising from temporary differences, net of DTLs.” A covered institution in a net deferred tax liability (DTL) position would report this item as a negative number. This modification would provide more specific information about the components of the “DTAs arising from temporary differences that could not be realized through net operating loss carrybacks, net of related valuation allowances and net of DTLs” subject to the common equity tier 1 capital deduction threshold.

The proposed revisions would also remove certain items that pertained to the capital regulations in place before the adoption of the Basel III final rule.

Summary Schedule, Retail Balances and Loss Worksheet

The FDIC proposes to remove the Retail Balances and Loss Worksheet.

Summary Schedule, Retail Repurchase Worksheet

The FDIC proposes to remove the Retail Repurchase Worksheet.

Summary Schedule, High-Level OTTI Methodology and Assumptions for AFS and HTM Securities by Portfolio Worksheet

The FDIC proposes to remove the High-Level OTTI Methodology and Assumptions for AFS and HTM Securities by Portfolio Worksheet.

Summary Schedule, Projected OTTI for AFS Securities and HTM Securities Worksheet

The FDIC proposes to remove the Projected OTTI for AFS Securities and HTM Securities Worksheet.

Summary Schedule, Actual AFS and HTM Fair Market Value Sources by Portfolio Worksheet

The FDIC proposes to remove the Actual AFS and HTM Fair Market Value Sources by Portfolio Worksheet.

Summary Schedule, Trading Worksheet

The FDIC proposes to remove the Trading Worksheet.

Summary Schedule, Counterparty Credit Risk Worksheet

The FDIC proposes to remove the Counterparty Credit Risk Worksheet.

Summary Schedule, PPNR Metrics Worksheet

The FDIC proposes to remove the PPNR Metrics Worksheet.

Regulatory Capital Instruments Schedule

The FDIC proposes to remove the Regulatory Capital Instruments Schedule.

Regulatory Capital Transitions Schedule

The FDIC proposes to remove the Regulatory Capital Transitions Schedule.

Operational Risk Schedule

The FDIC proposes to remove the Operational Risk Schedule.

Burden Estimates

The FDIC estimates that the proposed revisions will not affect the burden estimates of this information collection. The vast majority of the deleted schedules are applicable only to institutions with total assets greater than $250 billion or with foreign exposure greater than $10 billion. The FDIC does not supervise any state nonmember banks or state savings associations that meet that definition. Accordingly, in the case of the FDIC, the majority of the deleted schedules were not being used and the burden will remain as follows:

Number of Respondents: ⁸ 5.

⁸ The total number of respondents increased by one due to one covered institution growing above $50 billion in total assets.

Annual Burden per Respondent: 1,114.

Total Annual Burden: 5,570.

The FDIC recognizes that the Board requires bank holding companies to prepare the templates for the FR Y-14A. The FDIC believes that the systems covered institutions use to prepare the FR Y-14A reporting templates will also be used to prepare the reporting templates described in this notice.

Request for Comment

Comments continue to be invited on:

(a) Whether the collection of information is necessary for the proper performance of the functions of the FDIC, including whether the information has practical utility;

(b) The accuracy of the FDIC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated at Washington, DC, this 17th day of March 2017.
Federal Deposit Insurance Corporation.
Valerie J. Best,
Assistant Executive Secretary.

[FR Doc. 2017-05688 Filed 3-21-17; 8:45 am]

BILLING CODE 6714-01-P